DEPARTMENT OF TRANSPORTATION

Federal Aviation Administration

14 CFR Part 71

[Docket No. FAA-2008-0417; Airspace Docket No. 08-AEA-20]

Modification of Class E Airspace; Roanoke, VA

AGENCY: Federal Aviation Administration (FAA), DOT.

ACTION: Final rule.

SUMMARY: This action modifies Class E Airspace at Roanoke, Virginia to allow for a lower vectoring altitude known as the Minimum Vectoring Altitude (MVA) for vectoring of both Visual Flight Rule (VFR) and Instrument Flight Rule (IFR) aircraft within 20 miles of Roanoke, VA. This action will enhance the safety and airspace management around the Roanoke Regional/Woodrum Field Airport area.

DATES: Effective Date: 0901 UTC, January 15, 2009. The Director of the Federal Register approves this incorporation by reference action under title 1, Code of Federal Regulations, part 51, subject to the annual revision of FAA Order 7400.9 and publication of conforming amendments

FOR FURTHER INFORMATION CONTACT: Daryl Daniels, Airspace Specialist, System Support Group, Eastern Service Center, Air Traffic Organization, Federal Aviation Administration, P.O. Box 20636, Atlanta, Georgia 30320; telephone (404) 305-5581.

SUPPLEMENTARY INFORMATION:

History

On May 13, 2008, the FAA published in the Federal Register a proposal to amend Title 14 Code of Federal Regulations (14 CFR) part 71 by modifying Class E airspace at Roanoke, VA (73 FR 27481). Analysis of operations at Roanoke, Virginia determined a need for additional Class E5 airspace extending upward from 700 feet above the surface of the Earth to enhance the management, safety, and efficiency of air traffic services in the area. This action is in response to higher Minimum Vectoring Altitudes (MVAs) that were established due to a change in FAA Order 8260.64, Criteria and Guidance for Radar Operations.

Interested parties were invited to participate in this rulemaking proceeding by submitting written comments on the proposal to the FAA. No comments objecting to the proposal were received.

The Rule

This amendment to Title 14, Code of Federal Regulations (14 CFR) part 71 modifies Class E airspace at Roanoke, VA, allowing for the vectoring altitude to be lowered and to encompass a 20 mile radius of the Roanoke Regional/Woodrum Field Airport to accord with the revision of FAA Order 8260.64, Criteria and Guidance for Radar Operations for the establishment of MVAs. This Class E airspace modification allows the FAA to facilitate a better operation for intercepting the glide slopes and enhance the visual approach operation at Roanoke Regional/Woodrum Field Airport. Class E airspace designations for airspace areas extending upward from 700 feet or more above the surface of the Earth are published in Paragraph 6005 of FAA Order 7400.9R, signed August 15, 2007, and effective September 15, 2007, which is incorporated by reference in 14 CFR 71.1. The Class E airspace designation listed in this document will be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, would not have a significant economic impact on a substantial number of small entities under the criteria of the Regulatory Flexibility Act.

The FAA's authority to issue rules regarding aviation safety is found in Title 49 of the United States code. Subtitle I, Section 106 describes the authority of the FAA Administrator. Subtitle VII, Aviation Programs, describes in more detail the scope of the agency's authority.

This rulemaking is promulgated under the authority described in Subtitle VII, Part, A, Subpart I, Section 40103. Under that section, the FAA is charged with prescribing regulations to assign the use of airspace necessary to ensure the safety of aircraft and the efficient use of airspace. This regulation is within the scope of that authority as it modifies Class E airspace at Roanoke, VA.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 will continue to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, signed August 15, 2007, effective September 15, 2007, is amended as follows:

Paragraph 6005 Class E Airspace Areas Extending Upward From 700 Feet or More Above the Surface of the Earth.

* * * * *

AEA VA E5 Roanoke, VA [Revised]

Roanoke Regional/Woodrum Field Airport (Lat. 37°19′32″ N., long. 79°58′32″ W.)

That airspace extending upward from 700 feet above the surface of the Earth within a 15-mile radius of Roanoke Regional/Woodrum Field Airport beginning at the 036° bearing from the airport, thence clockwise until the 128° bearing, thence, within a 20-mile radius from the 128° bearing clockwise until the 273° bearing, thence direct to the point of beginning.

* * * * *

Issued in College Park, Georgia, on October 8, 2008.
Barry A. Knight,
Acting Manager, Operations Support Group, Eastern Service Center, Air Traffic Organization.

[FR Doc. E8-25057 Filed 10-21-08; 8:45 am]

BILLING CODE 4910-13-P